FEDERAL COMMUNICATIONS COMMISSION

47 CFR Parts 1 and 27

[WT Docket No. 12-357; FCC 19-29]

Service Rules for Advanced Wireless Services H Block—Implementing Section 6401 of the Middle-Class Tax Relief and Job Creation Act of 2012 Related to the 1915-1920 MHz and 1995-2000 MHz Bands

AGENCY: Federal Communications Commission.

ACTION: Notification of order on reconsideration.

SUMMARY: The Commission denied in part and dismissed in part the Petition for Reconsideration filed by the Rural Wireless Association, Inc. on September 16, 2013.

DATES: June 6, 2019.

FOR FURTHER INFORMATION CONTACT: Paul Malmud at the Wireless Telecommunication Bureau, at (202) 418-0006 or paul.malmud@fcc.gov.

SUPPLEMENTARY INFORMATION: This is a summary of the Commission's Order on Reconsideration, FCC 19-29, adopted on April 10, 2019 and released on April 12, 2019. The complete text of this document is available for public inspection and copying from 8 a.m. to 4:30 p.m. Eastern Time (ET) Monday through Thursday or from 8 a.m. to 11:30 a.m. ET on Fridays in the FCC Reference Information Center, 445 12th Street SW, Room CY-A257, Washington, DC 20554. The complete text is also available on the Commission's website at https://www.fcc.gov/edocs. Alternative formats are available to persons with disabilities by calling the Consumer & Governmental Affairs Bureau at (202) 418-0530 (voice), (202) 418-0432 (tty).

Synopsis

1. In 2013, the Commission released the H Block Report and Order 78 FR 50214 (Aug. 16, 2013), which adopted licensing and technical rules as well as a band plan for the 1915-1920 MHz and 1995-2000 MHz bands (the “H Block”) and procedures for assigning H Block licenses through a system of competitive bidding. The Rural Wireless Association, Inc. (RWA) filed a Petition for Reconsideration later that year asking the Commission to reconsider its decisions to license H Block spectrum using Economic Areas (EAs) and to adopt population-based performance requirements. The Commission disagrees with RWA's contention that the Commission should have: (1) Licensed H Block spectrum using CMAs rather than EAs, and (2) adopted geographic-based, rather than population-based, performance requirements.

2. In this document, the Commission dismisses in part and denies in part RWA's Petition for Reconsideration because the Commission acted well within its discretion, struck a reasonable and well-justified balance among multiple statutory goals. RWA also asked the Commission not to use package bidding, particularly Hierarchical Package Bidding, in the H Block Auction. The Commission dismissed this request as moot because package bidding was rejected in a related proceeding. 28 FCC Rcd 13019. Accordingly, it is ordered pursuant to section 4(i), 4(j), 303(r), and 309(j) of the Communications Act of 1934, as amended, 47 U.S.C. 154(i), 154(j), 303(r), and 309(j), as well as § 1.429 of the Commission's rules, 47 CFR 1.429, that the Petition for Reconsideration filed by the Rural Wireless Association, Inc., on September 16, 2013, is dismissed to the extent specified in this Order on Reconsideration and, alternatively and independently, denied as specified in the Order on Reconsideration.

Federal Communications Commission.
Marlene Dortch,
Secretary, Office of the Secretary.

[FR Doc. 2019-11047 Filed 6-5-19; 8:45 am]

BILLING CODE 6712-01-P